DEPARTMENT OF TRANSPORTATION

Federal Motor Carrier Safety Administration

[Docket No. FMCSA-2013-0147]

Qualification of Drivers: Skill Performance Evaluation Program; Virginia Department of Motor Vehicles Application for Exemption Renewal

AGENCY: Federal Motor Carrier Safety Administration (FMCSA), Department of Transportation (DOT).

ACTION: Notice of final disposition; renewal of exemption.

SUMMARY: FMCSA announces its decision to renew the exemption for truck and bus drivers who are licensed in the Commonwealth of Virginia and need a Skill Performance Evaluation (SPE) Certificate to operate commercial motor vehicles (CMV) in interstate commerce. FMCSA has analyzed the exemption renewal application and the public comment and has determined that the exemption, subject to the terms and conditions set forth below, is likely to achieve a level of safety that is equivalent to, or greater than, the level that would be achieved in the absence of the exemption.

DATES: The exemption is effective January 8, 2026, and expires July 8, 2027.

FOR FURTHER INFORMATION CONTACT: Ms. Christine A. Hydock, Chief, Medical Programs Division, (202) 366-4001, FMCSAMedical@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2013-0147/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analyses. The Agency must also provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish the decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

CMV drivers who are otherwise qualified to drive a CMV, but are not physically qualified to drive under 49 CFR 391.41(b)(1) or (2) because of a loss or impairment of a limb, may drive a CMV if FMCSA has granted an SPE certificate to that person under 49 CFR 391.49.

Application for Renewal of Exemption

The Virginia Department of Motor Vehicles's (VA DMV) application for exemption renewal was described in detail in a Federal Register notice published on July 7, 2025 (90 FR 29928), and will not be repeated as the facts have not changed.

IV. Public Comments

The Agency received one comment. Joseph Dillon is in favor of all States or FMCSA's field offices having the ability to renew SPE certificates. He explained that individuals who have a fixed limb loss should have a permanent waiver as the current requirement to renew an SPE certificate is every two years.

V. FMCSA Decision

FMCSA has evaluated the application from the VA DMV and the comment filed and grants the exemption renewal. Virginia's SPE program is essentially identical to the current FMCSA SPE program and is subject to oversight by FMCSA to ensure that Virginia's processes are equivalent to FMCSA's SPE processes. Virginia continues to adhere to the application process modeled on the FMCSA process. Virginia's personnel who conduct the SPEs complete the same training as FMCSA personnel conducting SPEs and follow the same procedures and testing criteria used by FMCSA. FMCSA has conducted monitoring and SPE program reviews and Virginia continues to maintain records of applications, testing, and certificates issued for periodic review by FMCSA. Based on FMCSA's analyses of the applications and the program, FMCSA has determined that continuing the exemption for the class of exempted drivers and continuing to allow the VA DMV to issue SPE certificates for Virginia residents will likely achieve a level of safety equivalent to what would be achieved in the absence of this exemption. While FMCSA's provisional notice stated it was considering renewing this exemption through July 8, 2030, FMCSA has decided this renewal will expire on July 8, 2027, to be consistent with the Agency's most recent renewal of this exemption which was also for a two-year period (88 FR 43065, July 6, 2023).

VI. Exemption

A. Applicability of Exemption

Under this exemption, the VA DMV is permitted to issue an SPE certificate for interstate drivers who have experienced an impairment or loss of a limb and are licensed in the Commonwealth of Virginia, subject to the following terms and conditions:

B. Terms and Conditions

1. VA DMV's SPE program must be substantially similar to the current requirements in 49 CFR 391.49.

2. VA DMV must maintain an application process modeled on the FMCSA process and submit information concerning the application process to FMCSA's Medical Programs Division for review, upon request.

3. State personnel who conduct SPEs must complete SPE training identical to that of FMCSA personnel currently administering the Federal SPE program.

4. The VA DMV SPE and SPE scoring must be done using the same procedures and testing criteria used by FMCSA.

5. VA DMV must maintain records of applications, testing, and certificates issued for periodic review by FMCSA.

6. VA DMV must submit a monthly report to FMCSA listing the names and license numbers of each driver tested by the State and the result of the SPE (pass or fail).

7. Upon request, the VA DMV must provide records required to be retained under this exemption and provide any other information necessary for FMCSA to evaluate the VA DMV's compliance with the terms and conditions of this exemption.

8. Each driver who receives a State-issued SPE certificate must carry a copy of the certificate when driving for presentation to authorized Federal, State, or local law enforcement officials.

C. Preemption

In accordance with 49 U.S.C. 31315(d), as implemented by 49 CFR 381.600, during the period this exemption is in effect, no State shall enforce any law or regulation that conflicts with this exemption with respect to a person operating under the exemption. An exemption granted under the authority of 49 U.S.C. 31315(b) preempts State laws and regulations that conflict with or are inconsistent with the exemption. The decision to grant the exemption amounts to automatic Federal ratification of the State-issued SPE Certificate and therefore prohibits other jurisdictions from requiring a separate FMCSA-issued SPE. The State-issued certificate must be treated as if it had been issued by FMCSA. Virginia-licensed drivers who receive the State-issued SPE certificate are allowed to operate CMVs in interstate commerce.

VII. Termination

FMCSA does not believe the drivers covered by this exemption will experience any deterioration of their safety record. However, the exemption will be rescinded if: (1) the VA DMV or the drivers operating under the exemption fail to comply with the terms and conditions of the exemption; (2) the exemption has resulted in a lower level of safety than was maintained before it was granted; or (3) continuation of the exemption would not be consistent with the goals and objectives of 49 U.S.C. 31136(e) and 31315(b).

Derek Barrs,
Administrator.

[FR Doc. 2026-00318 Filed 1-9-26; 8:45 am]

BILLING CODE 4910-EX-P